DEPARTMENT OF JUSTICE

Office of the Assistant Attorney General for Civil Rights; Certification of the State of North Carolina Accessibility Code Under the Americans With Disabilities Act

AGENCY: Department of Justice.

ACTION: Notice of certification of equivalency.

SUMMARY: The Department of Justice (Department) has determined that the 2002 North Carolina Accessibility Code with 2004 Amendments (NCAC) meets or exceeds the new construction and alterations requirements of title III of the Americans with Disabilities Act of 1990 (ADA). The Department has issued a certification of equivalency, pursuant to 42 U.S.C. 12188(b)(1)(A)(ii) and 28 CFR 36.601 et seq., which constitutes rebuttable evidence, in any enforcement proceeding, that a building constructed or altered in accordance with the NCAC meets or exceeds the requirements of the ADA.

DATES: December 8, 2005.

FOR FURTHER INFORMATION CONTACT: John L. Wodatch, Chief, Disability Rights Section, Civil Rights Division, U.S. Department of Justice, 950 Pennsylvania Avenue, NW., 1425 NYA Building, Washington, DC 20530. Telephone number (800) 514-0301 (Voice) or (800) 514-0383 (TTY).

Copies of this notice are available in formats accessible to individuals with vision impairments and may be obtained by calling (800) 514-0301 (Voice) or (800) 514-0383 (TTY).

SUPPLEMENTARY INFORMATION:

Background

The ADA authorizes the Department of Justice, upon application by a State or local government, to certify that a State or local law that establishes accessibility requirements meets or exceeds the minimum requirements of title III of the ADA for new construction and alterations. 42 U.S.C. 12188(b)(1)(A)(ii); 28 CFR 36.601 et seq. Final certification constitutes rebuttable evidence, in any ADA enforcement action, that a building constructed or altered in accordance with the certified code complies with the new construction and alterations requirements of title III of the ADA.

The North Carolina Department of Insurance requested that the Department of Justice (Department) certify that the 2002 North Carolina Accessibility Code with 2004 Amendments (NCAC) meets or exceeds the new construction and alterations requirements of title III of the ADA.

The Department has analyzed the NCAC and has preliminarily determined that it meets or exceeds the new construction and alterations requirements of title III of the ADA. By letter dated March 17, 2005, the Department notified the North Carolina Department of Insurance of its preliminary determination of equivalency.

On April 8, 2005, the Department published notices in the Federal Register announcing its preliminary determination of equivalency and requesting public comments thereon. The period for submission of written comments ended on June 7, 2005. In addition, the Department held public hearings in Cary, North Carolina on May 16, 2005, and in Washington, DC, on June 20, 2005.

Seven individuals provided comments. The commenters included design professionals, disability rights advocates, government officials, and other interested individuals. The Department has analyzed all of the submitted comments and has consulted with the U.S. Architectural and Transportation Barriers Compliance Board.

The majority of the comments the Department received supported certification of the NCAC. Two commenters, while not opposing certification of the NCAC, had questions about the State's enforcement of the NCAC. Based on these comments, the Department has determined that the NCAC is equivalent to the new construction and alterations requirements of title III of the ADA. Therefore, the Department has informed the submitting official of its decision to certify the NCAC.

Effect of Certification

The certification determination will be limited to the version of the NCAC that has been submitted to the Department. The certification will not apply to amendments or interpretations that have not been submitted and reviewed by the Department.

Certification will not apply to buildings constructed by or for State or local government entities, which are subject to title II of the ADA. Nor does certification apply to accessibility requirements that are addressed by the NCAC, but are not addressed by the new construction and alterations requirements of title III of the ADA, including the ADA Standards for Accessible Design.

Finally, certification does not apply to variances or waivers granted under the NCAC. Certification also does not apply if other State building codes provide exemptions from the NCAC requirements. Therefore, if a builder receives a variance, waiver, modification, or other exemption from the requirements of the NCAC for any element of new construction or alterations, the builder would not be in compliance with the ADA and would not be able to benefit from certification's rebuttable evidence of ADA compliance with respect to that element.

Wan J. Kim,
Assistant Attorney General for Civil Rights.

[FR Doc. E5-7072 Filed 12-7-05; 8:45 am]

BILLING CODE 4410-13-P